DEPARTMENT OF COMMERCE

National Oceanic and Atmospheric Administration

[I.D. 042100A]

Western Pacific Fishery Management Council; Public Meeting

AGENCY: National Marine Fisheries Service (NMFS), National Oceanic and Atmospheric Administration (NOAA), Commerce.

ACTION: Notice of public meeting.

SUMMARY: The Council's Recreational Fisheries Data Task Force (RFDTF) will hold a meeting.

DATES: The meeting will be held May 11, 2000, from 8:30 a.m. to 1:00 p.m.

ADDRESSES: The meeting will be held at the Western Pacific Fishery Management Council office, 1164 Bishop St., Suite 1400, Honolulu, HI 96813.

FOR FURTHER INFORMATION CONTACT: Kitty M. Simonds, Executive Director; telephone: 808-522-8220.

SUPPLEMENTARY INFORMATION: This will be the fifth meeting of the RFDTF which will discuss the following topics: review of minutes from fourth Task Force meeting, review of proposal for redefining commercial fishermen, review of a rapid survey instrument to establish total pelagic catch in Hawaii, review of longer term strategies for obtaining recreational fishery data in Hawaii, and an update on the recent (sixth) meeting to establish an international management regime for tuna and tuna-like species in the Central-Western Pacific.

Although non-emergency issues not contained in this agenda may come the RFDTF for discussion, in accordance with the Magnuson-Stevens Fishery Conservation and Management Act, those issues may not be subject of formal action during this meeting. Action will be restricted to those issues specifically identified in this agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Kitty M. Simonds, 808-522-8220 (voice) or 808-522-8226 (fax), at least 5 days prior to meeting date.

Dated: April 21, 2000.
Richard W. Surdi,
Acting Director, Office of Sustainable Fisheries, National Marine Fisheries Service.

[FR Doc. 00-10437 Filed 4-25-00; 8:45 am]

BILLING CODE 3510-22-F